DEPARTMENT OF TRANSPORTATION

Federal Aviation Administration

14 CFR Part 39

[Docket No. 99-NM-163-AD; Amendment 39-12001; AD 2000-23-28]

RIN 2120-AA64

Airworthiness Directives; Boeing Model 777 Series Airplanes

AGENCY: Federal Aviation Administration, DOT.

ACTION: Final rule.

SUMMARY: This amendment supersedes an existing airworthiness directive (AD), applicable to all Boeing Model 777 series airplanes, that currently requires repetitive testing of the engine fire shutoff switch (EFSS) to determine if the override mechanism and the switch handle are operational, and replacement of the EFSS, if necessary. That AD also requires, for certain airplanes, installation of a collar on a specific circuit breaker of the standby power management panel, and installation of placards to advise the flightcrew that the override mechanism must be pushed in order to pull the fire switch. This amendment adds various actions that would terminate the repetitive testing requirements. This amendment is prompted by a report indicating that a solenoid and an override mechanism of the EFSS were not operational due to overheating of the solenoid. The actions specified by this AD are intended to prevent damage to the EFSS solenoid and to the override mechanism, and consequent failure of the EFSS due to overheating of the solenoid; such failure could result in the inability of the flightcrew to discharge the fire extinguishing agent in the event of an engine fire.

DATES: Effective January 2, 2001.

The incorporation by reference of Boeing Alert Service Bulletin 777-26A0009, dated October 23, 1997, as listed in the regulations, is approved by the Director of the Federal Register as of January 2, 2001.

The incorporation by reference of Boeing Alert Service Bulletin 777-26A0012, dated May 1, 1997, as listed in the regulations, was approved previously by the Director of the Federal Register as of May 27, 1997 (62 FR 25837, May 12, 1997).

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Larry Reising, Aerospace Engineer, Propulsion Branch, ANM-140S, FAA, Seattle Aircraft Certification Office, 1601 Lind Avenue, SW., Renton, Washington 98055-4056; telephone (425) 227-2683; fax (425) 227-1181.

SUPPLEMENTARY INFORMATION: A proposal to amend part 39 of the Federal Aviation Regulations (14 CFR part 39) by superseding AD 97-10-11, amendment 39-10023 (62 FR 25837, May 12, 1997), which is applicable to all Boeing Model 777 series airplanes, was published in the Federal Register on May 19, 2000 (65 FR 31837). The action proposed to terminate the repetitive testing of the engine fire shutoff switch (EFSS) required by AD 97-10-11.

Comments

Interested persons have been afforded an opportunity to participate in the making of this amendment. Due consideration has been given to the comments received.

Supportive Comment

One commenter concurs with the proposed rule and indicates that it has almost completed the terminating action on its entire fleet.

Request for Exemption

One commenter, an operator, requests that an exemption be added to the proposed rule for airplanes recently delivered, if the operator can prove by inventory records that it has at no time purchased or borrowed the EFSS with the part numbers specified in this proposed rule. The commenter states that the proposal does not affect operators with recently delivered airplanes that were not affected by AD 97-10-11. Additionally, the commenter notes that at no time did it have the old EFSS in its system nor did it replace an EFSS on any of its in-service airplanes. The commenter concludes that this proposed rule should not be applicable to it.

The FAA is unable to grant an exemption in light of the fact that paragraph (d) of this final rule prohibits future installation of the defective EFSS [engine fire control module having part number (P/N) 233W6201-1, or engine fire switches having P/N S231W263-1 or -2]. Therefore, this requirement affects any airplanes delivered after this final rule is issued. However, the FAA recognizes from the commenter's interpretation of paragraph (c) of the final rule that this paragraph requires further clarification. The FAA's intent is to require removal and replacement of the engine fire control module only if it contains a defective EFSS. Therefore, paragraph (c) of this final rule has been revised to add an option to verify that the improved engine fire control module is installed, which would constitute terminating action for the repetitive testing requirements in paragraph (b) of the final rule.

Conclusion

After careful review of the available data, including the comments noted above, the FAA has determined that air safety and the public interest require the adoption of the rule with the change previously described. The FAA has determined that this change will neither increase the economic burden on any operator nor increase the scope of the AD.

Cost Impact

There are approximately 196 airplanes of the affected design in the worldwide fleet. The FAA estimates that 48 airplanes of U.S. registry will be affected by this AD.

The actions that are currently required by AD 97-10-11, and retained in this AD, take approximately 1 work hour per airplane to accomplish, at an average labor rate of $60 per work hour. Based on these figures, the cost impact of the currently required actions on the U.S. operators is estimated to be $2,880, or $60 per airplane, per testing cycle.

The new actions that are required by this AD action take approximately 1 work hour per airplane to accomplish, at an average labor rate of $60 per work hour. Required parts will cost approximately $4,054 per airplane. Based on these figures, the cost impact of the new requirements of this AD on U.S. operators is estimated to be $197,472, or $4,114 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10023 (62 FR 25837, May 12, 1997), and by adding a new airworthiness directive (AD), amendment 39-12001, to read as follows:

2000-23-28 Boeing: Amendment 39-12001. Docket 99-NM-163-AD. Supersedes AD 97-10-11, Amendment 39-10023.

Applicability: All Model 777 series airplanes, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent damage to the engine fire shutoff switch (EFSS) solenoid and to the override mechanism, and consequent failure of the EFSS, which could result in the inability of the flightcrew to discharge the fire extinguishing agent in the event of an engine fire, accomplish the following:

Restatement of Actions Required by AD 97-10-11

Repetitive Testing of the EFSS

(a) For all airplanes: Within 14 days after May 27, 1997 (the effective date of AD 97-10-11, amendment 39-10023), perform a test of the EFSS of both the left- and right-hand engines to determine if the override mechanism and the switch handle are operational, in accordance with Boeing Alert Service Bulletin 777-26A0012, dated May 1, 1997.

(1) If the override mechanism and the switch handle of the EFSS are operational, prior to further flight, accomplish the requirements of paragraph (a)(1)(i) or (a)(1)(ii) of this AD, as applicable, in accordance with the alert service bulletin.

(i) For Group 1 airplanes identified in the alert service bulletin: Install a collar on circuit breaker C26612 of panel P310 of the standby power management panel. Following accomplishment of this installation, prior to further flight, install placards near the EFSS of both engines and near the auxiliary power unit (APU) EFSS to advise the flightcrew that the override mechanism must be pushed in order to pull the fire switch.

(ii) For Group 2 airplanes identified in the alert service bulletin: Ensure that a collar is installed on circuit breaker C26612 of panel P310 of the standby power management panel. If a collar is not installed, prior to further flight, install a collar on circuit breaker C26612 of panel P310 of the standby power management panel.

(2) If the override mechanism or the switch handle of the EFSS is not operational, prior to further flight, replace the EFSS with a new or serviceable EFSS, in accordance with the alert service bulletin.

(b) For all airplanes: Repeat the requirements of paragraph (a) of this AD thereafter at intervals not to exceed 500 flight hours.

New Actions Required by This AD

Terminating Action

(c) For all airplanes: Within 2 years after the effective date of this AD, accomplish the actions specified in either paragraph (c)(1) or (c)(2) of this AD, in accordance with Boeing Alert Service Bulletin 777-26A0009, dated October 23, 1997.

(1) Verify that the airplane does not have an engine fire control module having part number (P/N) 233W6201-1, and that the airplane configuration is equivalent to that specified in the alert service bulletin. If the airplane meets the requirements in this paragraph, no further action is required by this AD.

(2) If the airplane does not meet the requirements specified in paragraph (c)(1) of this AD: Remove the engine fire control module, P/N 233W6201-1, and replace it with P/N 233W6201-5; activate the circuit breaker C26612 in the P310 panel; and remove the placards in the flight deck compartment; in accordance with the alert service bulletin. Accomplishment of this paragraph constitutes terminating action for the repetitive testing requirements of paragraph (b) of this AD.

Spares

(d) As of the effective date of this AD, no person shall install an engine fire control module, P/N 233W6201-1, or engine fire switches P/N S231W263-1 or -2, on any airplane.

Alternative Methods of Compliance

(e) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 2: Information concerning the existence of approved alternative methods of compliance with this AD, if any, may be obtained from the Seattle ACO.

Special Flight Permits

(f) Special flight permits may be issued in accordance with sections 21.197 and 21.199 of the Federal Aviation Regulations (14 CFR 21.197 and 21.199) to operate the airplane to a location where the requirements of this AD can be accomplished.

Incorporation by Reference

(g) The actions shall be done in accordance with Boeing Alert Service Bulletin 777-26A0012, dated May 1, 1997, and Boeing Alert Service Bulletin 777-26A0009, dated October 23, 1997.

(1) The incorporation by reference of Boeing Alert Service Bulletin 777-26A0009, dated October 23, 1997, is approved by the Director of the Federal Register in accordance with 5 U.S.C. 552(a) and 1 CFR part 51.

(2) The incorporation by reference of Boeing Alert Service Bulletin 777-26A0012, dated May 1, 1997, was approved previously by the Director of the Federal Register as of May 27, 1997 (62 FR 25837, May 12, 1997).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(h) This amendment becomes effective on January 2, 2001.

Issued in Renton, Washington, on November 15, 2000.
Donald L. Riggin,
Acting Manager, Transport Airplane Directorate, Aircraft Certification Service.

[FR Doc. 00-29799 Filed 11-27-00; 8:45 am]

BILLING CODE 4910-13-U